DEPARTMENT OF THE INTERIOR

Bureau of Land Management

[AK-930-1310-AG]

Notice of Intent To Amend the Northeast National Petroleum Reserve-Alaska Integrated Activity Plan and To Prepare an Accompanying Environmental Impact Statement, Request for Information, and Call for Nominations and Comments

AGENCY: Bureau of Land Management, Interior.

ACTION: Notice of Intent to amend the Northeast National Petroleum Reserve-Alaska (NPR-A) Integrated Activity Plan (IAP) and to prepare an accompanying Environmental Impact Statement (EIS), Request for Information, and Call for Nominations and Comments.

SUMMARY: In accordance with the Federal Land Policy and Management Act of 1976 (43 U.S.C. 1701 et seq.), as amended; the National Environmental Policy Act of 1969 (42 U.S.C. 4321 et seq.), as amended; Title I of the Naval Petroleum Reserves Production Act of 1976 (42 U.S.C. 6501 et seq.), as amended by the Department of the Interior and Related Agencies Appropriations Act for Fiscal Year 1981, Pub. L. 96-514, 94 Stat. 2957, 2964 (codified in 42 U.S.C. 6508); the Alaska National Interest Lands Conservation Act, Pub. L. 96-487, 94 Stat. 2371, section 810, 16 U.S.C. 3120; and the regulations at 43 CFR parts 2360 and 3130; the Bureau of Land Management (BLM), Alaska State Office, is preparing an amendment to the existing IAP for the Northeast portion of the NPR-A and an accompanying EIS. The purpose of this Notice is to seek comment on the proposed amendment and to call for nomination of areas to be considered for oil and gas leasing. Information and comments on specific issues to be addressed in the amendment are sought from all interested parties. This early planning and consultation step is important for ensuring that all interests and concerns are communicated to the BLM Alaska State Director for decisions in land use, planning and management.

DATES: Responses to this request for information and comments, and call for nominations must be received no later than September 30, 2003. Nominations must be submitted in envelopes labeled “Nominations Related to the NPR-A IAP/EIS” to protect the confidentiality of the nominations. Information, comments, and nominations submitted in response to this publication will assist in early scoping and later development of alternatives for the IAP/EIS. Comments are sought on activities and measures to protect surface resources within the planning area, including the Teshepuk Lake and Colville River Special Areas, fish and wildlife, and historical and scenic values. Comments are sought on subsistence uses and needs within the plan area and possible impacts on subsistence from other uses of the area. Comments should include recommendations for particular sections of the plan area that are of value for surface and subsurface resources, as well as conditions, and restrictions that would protect surface resources. Comments are also sought on any potential conflicts with approved coastal management plans (CMPs) and other land use plans that may result from possible future activities in the area. These comments should identify specific policies of concern as listed in CMPs or other plans, the nature of the conflicts foreseen, and steps that BLM could take to avoid or mitigate the potential conflicts. Comments may be in terms of broad areas or restricted to particular townships of concern.

ADDRESSES: Comments should be submitted to the Northeast NPR-A Amendment Planning Team Leader, 222 West 7th Avenue, #13 Anchorage, Alaska 99513-7599. The original Call map with nominations must be submitted to the NPR-A Planning Team Leader at the above address.

FOR FURTHER INFORMATION, CONTACT: Curt Wilson, (907) 271-5546, by e-mail at c1wilson@ak.blm.gov or by mail at 222 W. 7th Avenue, #13, Anchorage, AK 99513-7599.

SUPPLEMENTARY INFORMATION: The BLM published a Record of Decision (ROD) October 7, 1998, for the Northeast National Petroleum Reserve-Alaska Integrated Activity Plan/Environmental Impact Statement. Among other decisions, this document makes 589,000 acres in the Teshekpuk Lake area unavailable for leasing and restricts an additional 268,862 acres to leasing, but with no permanent facilities and no exploratory wells. The ROD also contains a set of prescriptive stipulations that are very specific and in some cases may be inappropriately or needlessly restrictive.

The BLM initiated an oil and gas leasing program for the planning area in May of 1999 and has conducted two successful lease sales. Many lease tracts were sold around the perimeter of the Teshekpuk Lake area. In the four years since the initial lease sale industry has completed many miles of additional seismic lines and drilled 14 exploratory wells after environmental assessments were completed. The BLM has conducted various scientific studies on the biological resources of the plan area in cooperation with the North Slope Borough, the State of Alaska and other federal agencies. Information gained since the completion of the Northeast plan has led the BLM to conclude that it is appropriate to consider amending it with two specific objectives in mind: (1) To consider changing the current prescriptive stipulations on existing and future leases into a mixture of prescriptive and performance-based stipulations; and, (2) to evaluate additional lands for exploration and development opportunities that could provide access to new oil discoveries, while remaining sensitive to biological and subsistence values.

Description of the Area: The planning area is composed of those BLM-administered lands, subject to valid existing rights, in the northeastern portion of NPR-A. The northeastern portion of NPR-A is described as beginning on the NPR-A boundary on the township line between T.3 S., R. 5 W. and T. 3 S., R. 6 W., Umiat Meridian (U.M.), and thence northerly along the township lines to the northeast corner of T. 2 N., R. 6 W., U.M., thence westerly along the township line to the right bank of the Ikpikpuk River, thence northerly along the right bank of the Ikpikpuk River to the northern boundary of NPR-A, thence in a generally easterly and southerly direction following the boundary of NPR-A to the point of beginning. This area consists of approximately 4.6 million acres. A large scale map of the plan area (which also serves as the Call map) showing boundaries of the area on a township-by-township basis is available from the Alaska State Office, BLM, 222 West 7th Avenue, Anchorage, AK 99501, telephone (907) 271-3369.

Pursuant to 43 CFR 3131.1 and 3131.2, relevant information related to possible oil and gas leasing is requested for the plan area. Oil and gas companies are specifically requested to nominate within the plan area, areas that they would like to have considered for oil and gas leasing. Nominations must be depicted on the Call map by outlining the area(s) of interest along township lines. Nominators are asked to submit a list of townships nominated to facilitate correct interpretation of their nominations on the Call map. Although the identities of those submitting nominations for oil and gas leasing become a matter of public record, the individual nominations will be held confidential consistent with applicable law.

Nominators also are requested to rank townships nominated for oil and gas leasing according to priority of interest [(e.g., priority 1 (high), 2 (medium), or 3 (low)]. Townships nominated that do not indicate priorities will be considered priority 3. Nominators are encouraged to be specific in indicating townships by priority. Blanket priorities on large areas are not useful in the analysis of industry interest. The telephone number and name of a person to contact in the nominator's organization for additional information should be included in the response.

The regulations at 43 CFR part 3130 limit the size of an oil and gas lease tract within the NPR-A boundaries to no more than 60,000 acres (43 CFR 3130.4-1). Although nominations are to be submitted along township lines, comments are also being sought on the preferred size of tracts for leasing in this area, not to exceed 60,000 acres.

Tentative Schedule: Approximate dates for actions and decisions in the planning process for this proposal are:

Comments Due on Notice, and Request—September 30, 2003

Scoping meetings (precise dates to be announced later)—September 2003

Draft IAP/EIS available for comment—April 2004

Public meetings/hearings—April-May 2004

Comments due on Draft IAP/EIS—May 31, 2004

Final IAP/EIS available for public review—October 31, 2004

Record of Decision—November 30, 2004

Dated: May 16, 2003.
Henri R. Bisson,
State Director.

[FR Doc. 03-15737 Filed 6-20-03; 8:45 am]

BILLING CODE 4310-JA-P